DEPARTMENT OF VETERANS AFFAIRS

Reasonable Charges for Medical Care or Services; 2003 Update

AGENCY: Department of Veterans Affairs.

ACTION: Notice.

SUMMARY: This document provides “reasonable charges” for medical care or services provided or furnished by VA to a veteran:

—For a nonservice-connected disability for which the veteran is entitled to care (or the payment of expenses of care) under a health plan contract;

—For a nonservice-connected disability incurred incident to the veteran's employment and covered under a worker's compensation law or plan that provides reimbursement or indemnification for such care and services; or

—For a nonservice-connected disability incurred as a result of a motor vehicle accident in a State that requires automobile accident reparations insurance.

FOR FURTHER INFORMATION CONTACT: David Cleaver, Chief Business Office (161), Veterans Health Administration, Department of Veterans Affairs, 810 Vermont Avenue, NW., Washington, DC 20420, (202) 254-0361. (This is not a toll free number.)

SUPPLEMENTARY INFORMATION: The “reasonable charges” regulations for medical care and services (38 CFR 17.101), as amended by a companion document published in this issue of the Federal Register, have established the methodology for acute inpatient facility charges at § 17.101(b), the methodology for skilled nursing facility/sub-acute inpatient facility charges at § 17.101(c), the methodology for outpatient facility charges at § 17.101(d), and the methodology for physician charges at § 17.101(e). Using these methodologies, information for calculating actual charge amounts at individual VA facilities is set forth below and is effective until changed by a subsequent Federal Register notice.

Previously, information on the data sources used to establish Relative Value Units (RVUs) for specified Current Procedural Terminology (CPT) codes was included in the regulations. We are now presenting this information in the applicable Federal Register notice. For this notice, the CPT codes to which this information applies are presented in Table F, Physician Nationwide RVUs and Conversion Factors for CPT Codes with Total RVUs Only, and Table I, Physician Nationwide RVUs and Conversion Factors for Pathology and Laboratory CPT Codes with Total RVUs Only. Information on the data sources used to establish RVUs for these CPT codes is presented in the Data Source columns in these tables. The meanings of the entries in these columns are fully described in the reasonable charges regulations at § 17.101(a)(4) and § 17.101(e).

Approved: March 20, 2003.
Anthony J. Principi,
Secretary of Veterans Affairs.

BILLING CODE 8320-01-P

[FR Doc. 03-10120 Filed 4-28-03; 8:45 am]

BILLING CODE 8320-01-C